DEPARTMENT OF THE INTERIOR

Bureau of Land Management

[LLNV952000 L14400000.BJ0000.LXSSF2210000.241A; MO # 4500142180 TAS: 20X]

Filing of Plats of Survey; NV

AGENCY: Bureau of Land Management, Interior.

ACTION: Notice.

SUMMARY: The purpose of this notice is to inform the public and interested State and local government officials of the filing of Plats of Survey in Nevada.

DATES: Filing is applicable at 10:00 a.m. on the date indicated below.

FOR FURTHER INFORMATION CONTACT: Michael O. Harmening, Chief Cadastral Surveyor for Nevada, Bureau of Land Management, Nevada State Office, 1340 Financial Blvd., Reno, NV 89502-7147, phone: 775-861-6490. Persons who use a telecommunications device for the deaf (TDD) may call the Federal Information Relay Service (FIRS) at1-800-877-8339 to contact the above individual during normal business hours. The FIRS is available 24 hours a day, 7 days a week, to leave a message or question with the above individual. You will receive a reply during normal business hours.

SUPPLEMENTARY INFORMATION:

1. The Plat of Survey of the following described lands was officially filed at the Bureau of Land Management (BLM) Nevada State Office, Reno, Nevada on January 6, 2020.

The plat, in one sheet, representing the dependent resurvey of a portion of the west boundary and the subdivisional lines, and the subdivision of sections 7 and 18, Township 47 North, Range 58 East, Mount Diablo Meridian, Nevada, under Group No. 986, was accepted January 2, 2020. This survey was executed to meet certain administrative needs of the Bureau of Land Management.

2. The Plat of Survey of the following described lands was officially filed at the Bureau of Land Management (BLM) Nevada State Office, Reno, Nevada on December 12, 2019:

The plat, in one sheet, representing the survey of portions of the south, east, and north boundaries, and a portion of the subdivisional lines of Township 12 North, Range 55 East, Mount Diablo Meridian, Nevada, under Group No. 974, was accepted December 3, 2019. This survey was executed to define and mark boundaries and prepare an official land description for trust lands transferred by the Nevada Native Nations Land Act, Public Law 114-232, enacted October 7, 2016.

3. The Plat of Survey of the following described lands was officially filed at the Bureau of Land Management (BLM) Nevada State Office, Reno, Nevada on December 12, 2019:

The plat, in one sheet, representing the dependent resurvey of a portion of the west boundary of Township 12 North, Range 56 East (Ruby Valley Guide Meridian) and a portion of Tract 37, and the survey of the north boundary and portion of the subdivisional lines of Township 12 North, Range 55½ East, Mount Diablo Meridian, Nevada, under Group No. 974, was accepted December 3, 2019. This survey was executed to define and mark boundaries and prepare an official land description for trust lands transferred by the Nevada Native Nations Land Act, Public Law 114-232, enacted October 7, 2016.

4. The Plat of Survey of the following described lands was officially filed at the Bureau of Land Management (BLM) Nevada State Office, Reno, Nevada on December 12, 2019:

The plat, in one sheet, representing the dependent resurvey of portions of the subdivisional lines, and portions of the subdivision-of-section lines of sections 5 and 17, and the further subdivision of sections 5 and 17, Township 12 North, Range 56 East, Mount Diablo Meridian, Nevada, under Group No. 974, was accepted December 3, 2019. This survey was executed to define and mark boundaries and prepare an official land description for trust lands transferred by the Nevada Native Nations Land Act, Public Law 114-232, enacted October 7, 2016.

5. The Plat of Survey of the following described lands was officially filed at the Bureau of Land Management (BLM) Nevada State Office, Reno, Nevada on December 12, 2019:

The plat, in one sheet, representing the survey of the east boundary, a portion of the north boundary, and a portion of the subdivisional lines of Township 13 North, Range 55 East, Mount Diablo Meridian, Nevada, under Group No. 974, was accepted December 3, 2019. This survey was executed to define and mark boundaries and prepare an official land description for trust lands transferred by the Nevada Native Nations Land Act, Public Law 114-232, enacted October 7, 2016.

6. The Plat of Survey of the following described lands was officially filed at the Bureau of Land Management (BLM) Nevada State Office, Reno, Nevada on December 12, 2019:

The plat, in one sheet, representing the dependent resurvey of portions of the west boundaries of Townships 12 and 13 North, Range 56 East (Ruby Valley Guide Meridian) and the survey of the north boundary and the subdivisional lines of Township 13 North, Range 55½ East, Mount Diablo Meridian, Nevada, under Group No. 974, was accepted December 3, 2019. This survey was executed to define and mark boundaries and prepare an official land description for trust lands transferred by the Nevada Native Nations Land Act, Public Law 114-232, enacted October 7, 2016.

7. The Plat of Survey of the following described lands was officially filed at the Bureau of Land Management (BLM) Nevada State Office, Reno, Nevada on December 12, 2019:

The plat, in one sheet, representing the dependent resurvey of a portion of the south boundary of Township 14 North, Range 55 East, and the survey of the east boundary and a portion of the subdivisional lines, Township 13½ North, Range 55 East, Mount Diablo Meridian, Nevada, under Group No. 974, was accepted December 3, 2019. This survey was executed to define and mark boundaries and prepare an official land description for trust lands transferred by the Nevada Native Nations Land Act, Public Law 114-232, enacted October 7, 2016.

8. The Plat of Survey of the following described lands was officially filed at the Bureau of Land Management (BLM) Nevada State Office, Reno, Nevada on December 12, 2019:

The plat, in one sheet, representing the dependent resurvey of portions of the west boundaries of Townships 13 and 14 North, Range 56 East (Ruby Valley Guide Meridian) and a portion of the south boundary of Township 14 North, Range 55 East, and the survey of the subdivisional lines of Township 13½ North, Range 55 ½ East, Mount Diablo Meridian, Nevada, under Group No. 974, was accepted December 3, 2019. This survey was executed to define and mark boundaries and prepare an official land description for trust lands transferred by the Nevada Native Nations Land Act, Public Law 114-232, enacted October 7, 2016.

9. The Plat of Survey of the following described lands was officially filed at the Bureau of Land Management (BLM) Nevada State Office, Reno, Nevada on December 12, 2019:

The plat, in one sheet, representing the dependent resurvey of a portion of the subdivisional lines, Township 13 North, Range 56 East, Mount Diablo Meridian, Nevada, under Group No. 974, was accepted December 3, 2019. This survey was executed to define and mark boundaries and prepare an official land description for trust lands transferred by the Nevada Native Nations Land Act, Public Law 114-232, enacted October 7, 2016.

The surveys listed above, are now the basic record for describing the lands for all authorized purposes. These records have been placed in the open files in the BLM Nevada State Office and are available to the public as a matter of information.

Dated: January 10, 2020.
Michael O. Harmening,
Chief Cadastral Surveyor for Nevada.

[FR Doc. 2020-01003 Filed 1-21-20; 8:45 am]

BILLING CODE 4310-HC-P